DEPARTMENT OF COMMERCE

National Oceanic and Atmospheric Administration

50 CFR Part 697

RIN 0648-AT31

Atlantic Coastal Fisheries Cooperative Management Act Provisions; American Lobster Fishery; Trap Transfer Program Implementation

AGENCY: National Marine Fisheries Service (NMFS), National Oceanic and Atmospheric Administration (NOAA), Commerce.

ACTION: American lobster trap transfer program implementation.

SUMMARY: This document announces the implementation of the American lobster trap transfer program. It is necessary because we deferred the start of the Program in the final rule approving the Program until a centralized trap transfer database was ready. Significant progress has been made on the centralized database. We are ready to announce that we will begin the Trap Transfer Program. This document alerts all Federal American lobster permit holders that trap transfer applications will soon be accepted.

DATES: Federal lobster permit holders may submit applications to transfer traps for the 2016 fishing year from August 1, 2015, through September 30, 2015. Revised trap allocations resulting from the trap transfers will take effect at the start of the 2016 Federal fishing year, May 1, 2016.

ADDRESSES: Submit trap transfer applications to Lobster Trap Transfer Program, NMFS, 55 Great Republic Drive, Gloucester, MA 01930. A copy of the trap transfer application is available at: http://www.greateratlantic.fisheries.noaa.gov/aps/forms.html.

FOR FURTHER INFORMATION CONTACT: Allison Murphy, Fishery Policy Analyst, 978-281-9122.

SUPPLEMENTARY INFORMATION: NMFS published a final rule (79 FR 19015, April 7, 2014), that established a Trap Transfer Program for Lobster Conservation Management Areas 2, 3, and the Outer Cape, consistent with the recommendations of the Atlantic States Marine Fisheries Commission in its Interstate Fishery Management Plan for American Lobster. This program will allow Federal permit holders to buy and sell all or part of a permit's trap allocation for these three areas to other Federal permit holders.

The final rule deferred the Trap Transfer Program's implementation date until the Commission completed the development of a centralized trap transfer database. A complete centralized database is needed to ensure that states and the agency are using the same consolidated and verified information at the beginning and end of the trap transfer period. At the time the final rule published, the trap transfer database was incomplete and we elected to defer implementation of the Trap Transfer Program until the Atlantic Coastal Cooperative Statistics Program (ACCSP), in collaboration with us, the Commission, and the states, could complete the comprehensive database. Database development has been completed and it has been tested by state and Federal partners. The database is now ready to track trap transfers.

Accordingly, we are ready to announce that the trap transfer application period will be from August 1 through September 30 of each year. All Federal permit holders requesting transfers for fishing year 2016 must apply to NMFS in writing no earlier than August 1, 2015, and no later than September 30, 2015. Applications received after September 30, 2015, will not be processed. A copy of the trap transfer application is available at: http://www.greateratlantic.fisheries.noaa.gov/aps/forms.html. We will approve or deny trap transfer applications pursuant to the regulations at 50 CFR 697.27 (http://www.ecfr.gov/cgi-bin/text-idx?c=ecfr&tpl=/ecfrbrowse/Title50/50cfr697_main_02.tpl). We urge all permit holders to be aware of these regulations before entering into trap transfer agreements. Approved trap transfers will not be effective until the start of the 2016 fishing year.

Authority: 16 U.S.C. 1801 et seq.; 16 U.S.C. 5101 et seq.

Dated: June 4, 2015.
Emily H. Menashes,
Acting Director, Office of Sustainable Fisheries, National Marine Fisheries Service.

[FR Doc. 2015-14049 Filed 6-8-15; 8:45 am]

BILLING CODE 3510-22-P